DEPARTMENT OF COMMERCE

National Oceanic and Atmospheric Administration

50 CFR Part 654

[Docket No. 110707375-1578-02]

RIN 0648-BB07

Fisheries of the Caribbean, Gulf of Mexico, and South Atlantic; Stone Crab Fishery of the Gulf of Mexico; Removal of Regulations

AGENCY: National Marine Fisheries Service (NMFS), National Oceanic and Atmospheric Administration (NOAA), Commerce.

ACTION: Final rule.

SUMMARY: NMFS issues this final rule to repeal the Fishery Management Plan for the Stone Crab Fishery of the Gulf of Mexico (FMP) and remove its implementing regulations, as requested by the Gulf of Mexico Fishery Management Council (Council). The stone crab fishery takes place primarily in state waters off the coast of Florida, and the Florida Fish and Wildlife Conservation Commission (FWC) is extending its management of the fishery into Federal waters. Repealing the Federal regulations will eliminate duplication of management efforts, reduce costs for the Federal government, and align with the President's Executive Order 13563, “Improving Regulation and Regulatory Review,” to ensure Federal regulations are more effective and less burdensome in achieving regulatory objectives. The intended effect of this action is to enhance the effectiveness and efficiency of managing the stone crab fishery in the Gulf of Mexico (Gulf).

DATES: This rule is effective October 24, 2011.

ADDRESSES: Electronic copies of documents supporting this final rule, which include an environmental assessment, may be obtained from Southeast Regional Office Web site at http://sero.nmfs.noaa.gov/sf/StoneCrab.htm.

FOR FURTHER INFORMATION CONTACT: Susan Gerhart, telephone: 727-824-5305 or e-mail: Susan.Gerhart@noaa.gov.

SUPPLEMENTARY INFORMATION: The stone crab fishery of the Gulf of Mexico (Gulf) is managed under the FMP. The FMP was prepared by the Council and implemented through regulations at 50 CFR part 654 under the authority of the Magnuson-Stevens Fishery Conservation and Management Act (Magnuson-Stevens Act).

On July 20, 2011, NMFS published a proposed rule to repeal the Federal stone crab FMP and requested public comment (76 FR 43250). The proposed rule and the environmental assessment outline the rationale for the measures contained in this final rule. This final rule will repeal the Federal stone crab FMP and its implementing regulations. The FWC has already voted to extend its authority to regulate stone crab in Federal waters. The intended effect of this rule is to eliminate duplication of management efforts, reduce costs, and enhance regulatory efficiency of the stone crab resource.

Comments and Responses

NMFS received two comments on the proposed rule, one from a Federal agency that was non-substantive and one from an individual that expressed general support for the rule. Neither submission expressed substantive comments on the proposed rule and, therefore, are not repeated here.

Classification

The Regional Administrator, Southeast Region, NMFS, has determined that this final rule is necessary to more efficiently manage the stone crab resource, and is consistent with the Magnuson-Stevens Act and other applicable laws.

This final rule has been determined to be not significant for purposes of Executive Order 12866.

The Chief Counsel for Regulation of the Department of Commerce certified to the Chief Counsel for Advocacy of the Small Business Administration during the proposed rule stage that this action would not have a significant economic impact on a substantial number of small entities. The factual basis for the certification was published in the proposed rule is not repeated here. No comments were received regarding this certification. As a result, a regulatory flexibility analysis was not required and none was prepared.

List of Subjects in 50 CFR Part 654

Fisheries, Fishing, Incorporation by reference.

Dated: September 15, 2011.
Samuel D. Rauch III,
Deputy Assistant Administrator for Regulatory Programs, National Marine Fisheries Service.

For the reasons set out in the preamble, under the authority of 16 U.S.C. 1801 et seq., part 654 is removed.

PART 654—[REMOVED]

1. Remove part 654.

[FR Doc. 2011-24274 Filed 9-22-11; 8:45 am]

BILLING CODE 3510-22-P